DEPARTMENT OF HOMELAND SECURITY

Transportation Security Administration

Intent To Request Renewal From OMB of One Current Public Collection of Information: Aviation Security Customer Satisfaction Performance Measurement Passenger Survey

AGENCY: Transportation Security Administration, DHS.

ACTION: 60 day notice.

SUMMARY: The Transportation Security Administration (TSA) invites public comment on one currently approved Information Collection Request (ICR), OMB control number 1652-0013, abstracted below, that we will submit to the Office of Management and Budget (OMB) for renewal and amendment in compliance with the Paperwork Reduction Act. The ICR describes the nature of the information collection and its expected burden. The collection involves surveying travelers to measure customer satisfaction of aviation security in an effort to more efficiently manage airport performance.

DATES: Send your comments by May 10, 2010.

ADDRESSES: Comments may be emailed to TSAPRA@dhs.gov or delivered to the TSA Paperwork Reduction Act (PRA) Officer, Office of Information Technology (OIT), TSA-40, Transportation Security Administration, 601 South 12th Street, Arlington, VA 20598-6040.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0013; Aviation Security Customer Satisfaction Performance Measurement Passenger Survey. TSA, with OMB's approval, has conducted surveys of passengers and now seeks approval to continue this effort. TSA plans to conduct passenger surveys at airports nationwide. The surveys will be administered using an intercept methodology. The intercept methodology uses TSA personnel who are not in uniform to hand deliver paper survey forms to passengers immediately following the passenger's experience with the TSA's checkpoint security functions. Passengers are invited, though not required, to complete and return the survey via pre-paid postage, which is prefixed to the survey, or passengers may submit their responses via an online portal. The intercept methodology randomly selects passengers to complete the survey in an effort to gain survey data representative of all passenger demographics—including passengers who—

• Travel on weekdays or weekends;

• Those who travel in the morning, mid-day, or evening;

• Those who pass through each of the different security screening locations in the airport;

• Those who are subject to more intensive screening of their baggage or person; and

• Those who experience different volume conditions and wait times as they proceed through the security checkpoints.

The survey includes ten to fifteen questions. Each question promotes a quality response so that TSA can identify areas in need of improvement. All questions concern aspects of the passenger's security screening experience.

TSA intends to collect this information in order to continue to assess customer satisfaction in an effort to more efficiently manage airport performance. In its future surveys, the TSA wishes to obtain more detailed, airport-specific data that the TSA can use to enhance customer experiences and airport performances. In order to gain more detailed information regarding customer experiences, the TSA is submitting eighty-one questions to OMB for approval. Twenty-eight of the questions have been previously approved by OMB and fifty-three questions are being submitted to the OMB for first-time approval. Each survey question seeks to gain information regarding one of the following categories:

• Confidence in Personnel

• Confidence in Screening Equipment

• Confidence in Security Procedures

• Convenience of Divesting

• Experience at Checkpoint

• Satisfaction with Wait Time

• Separation from Belongings

• Separation from Others in Party

• Stress Level

TSA personnel select passengers using a random method to voluntarily participate in the survey until the TSA obtains the desired sample size. The samples can be selected with one randomly selected time and location or span multiple times and location. Each airport may choose one or more of the following sample methods, which include a business card that directs customers to an online portal, a customer satisfaction card with survey questions on the card, or a customer satisfaction card with survey questions on the card and a link to the online portal. All responses are voluntary and there is no burden on passengers who choose not to respond.

TSA at airports have the capability to conduct this survey. We estimate that TSA at 25 airports will conduct the survey each year. Based on prior survey data and research, the TSA assumes a maximum volume for the survey would be 1,000 surveys per airport. We assume the burden on passengers who choose to respond to be approximately five minutes per respondent. Therefore, 1,000 surveys × 25 airports = 25,000 respondents a year, the total burden is 25,000 × 5 = 125,000 minutes, or 2083.3 hours per year.

Issued in Arlington, Virginia, on March 3, 2010.
Joanna Johnson,
TSA Paperwork Reduction Act Officer, Office of Information Technology.

[FR Doc. 2010-5176 Filed 3-10-10; 8:45 am]

BILLING CODE 9110-05-P